DEPARTMENT OF AGRICULTURE

Forest Service

36 CFR Part 242

DEPARTMENT OF THE INTERIOR

Fish and Wildlife Service

50 CFR Part 100

RIN 1018-AT81

Subsistence Management Regulations for Public Lands in Alaska, Subpart A

AGENCIES: Forest Service, Agriculture; Fish and Wildlife Service, Interior.

ACTION: Proposed Rule: Notice of availability of supplemental information and reopening of the comment period.

SUMMARY: On December 8, 2004, we, the Federal Subsistence Board, published a proposed rule to revise and clarify the jurisdiction of the Federal Subsistence Management Program in coastal areas in southwestern Alaska. This rulemaking is necessary in order to exclude numerous saltwater embayments within National Wildlife Refuge boundaries that were never intended to fall under the jurisdiction of the Federal Subsistence Management Program. We are now reopening the comment period for this rulemaking action because of newly available maps of the specific embayments in southwestern Alaska to be excluded from the jurisdiction of the Federal Subsistence Management Program. If you have already commented on the proposed rule and have no additional comments to make as a result of viewing the newly available maps, then you do not need to resubmit your comment(s), as they will be fully considered in the final determination.

DATES: We must receive your written public comments on this proposed rule no later than October 21, 2005.

ADDRESSES: Please submit comments electronically to Subsistence@fws.gov. See “Viewing Documents” and “Public Comment” under SUPPLEMENTARY INFORMATION for information about viewing the maps and electronic filing of your comments. You may also submit written comments to the Office of Subsistence Management, 3601 C Street, Suite 1030, Anchorage, Alaska 99503.

FOR FURTHER INFORMATION CONTACT: Chair, Federal Subsistence Board, c/o U.S. Fish and Wildlife Service, Attention: Thomas H. Boyd, Office of Subsistence Management; (907) 786-3888. For questions specific to National Forest System lands, contact Steve Kessler, Regional Subsistence Program Leader, USDA, Forest Service, Alaska Region, (907) 786-3888.

SUPPLEMENTARY INFORMATION:

Background

Federal Subsistence Management Regulations (50 CFR 100.3 and 36 CFR 242.3) currently specify that they apply on “all navigable and non-navigable waters within the exterior boundaries * * *” of the parks, refuges, forests, conservation areas, recreation areas, and Wild and Scenic Rivers. This includes, within National Wildlife Refuge boundaries, hundreds of thousands of acres of saltwater embayments that were not withdrawn prior to Statehood and thus where the current regulations exert jurisdiction. During the early interagency discussions relative to inclusion of fisheries management in the Federal Subsistence Management Program, there does not appear to have been any intention to specifically extend Federal jurisdiction to various embayments where there was no pre-Statehood withdrawal of submerged lands and waters.

On December 8, 2004, the Secretary of the Interior and the Secretary of Agriculture published a proposed rule in the Federal Register (69 FR 70940) that, if finalized, would revise and clarify the jurisdiction of the Federal Subsistence Management Program in coastal areas of southwestern Alaska to exclude those various embayments where there was no pre-Statehood withdrawal of submerged lands and waters. During the comment period, which closed originally on January 24, 2005, and was extended until April 1, 2005, one commenter indicated that in order to make meaningful comments, the public needed to know which specific bays would be affected and needed access to maps of the affected areas. We agree and are making maps available for review and are reopening the comment period to accept comments on the maps as well as on the proposed rule (69 FR 70940).

Areas To Be Excluded From Federal Subsistence Management Program Jurisdiction

Under the proposed rule, all of the following areas have been identified for exclusion from jurisdiction under the Federal Subsistence Management Program. Maps are now available for these areas.

Within the Alaska Peninsula or Izembek National Wildlife Refuge boundaries:

Wide Bay

Agripina Bay

Kujulik Bay

Chignik Lagoon, including Mallard Duck Bay and Schooner Bay

Mud Bay

Anchorage Bay

Lake Bay

Castle Bay

Warner Bay, including Ross Cove

Devils Bay

Kuiukta Bay, including Portage Bay, Windy Bay, Foot Bay, Fishhook Bay, and Herring Lagoon

Mitrofania Bay, including Fishrack Bay

Ivanof Bay

Boulder Bay

Fox Bay

American Bay

Albatross Anchorage

Pavlof Bay, including Canoe Bay, Jackson Lagoon, and Chinaman Lagoon

Long John Lagoon

Dushkin Lagoon

Bear Bay

Cold Bay, including Lenard Harbor, Nurse Lagoon, and Kinzarof Lagoon

Morzhovoi Bay, including Littlejohn Lagoon

Traders Cove

Bechevin Bay, including Hotsprings Bay

Herendeen Bay, including Mine Harbor

Port Moller, including Mud Bay, Right Head, and Left Head

Within Togiak National Wildlife Refuge boundaries:

Tvativak Bay

Kulukak Bay

Metervik Bay

Within the Yukon Delta National Wildlife Refuge boundaries:

Kangirlvar Bay, including Toksook Bay

Hazen Bay

Hooper Bay

Kokechik Bay

Viewing Documents

To view maps, go to the Office of Subsistence Management Web site at http://alaska.fws.gov/asm/home.html. If you do not have access to the internet, you may contact the Office of Subsistence Management at the address and phone number shown at FOR FURTHER INFORMATION CONTACT and we will send the maps to you.

Public Comment

Electronic filing of comments (preferred method): Please submit electronic comments and other data to Subsistence@fws.gov. Please submit as either WordPerfect or MS Word files, avoiding the use of any special characters and any form of encryption.

Our practice is to make comments, including names and home addresses of respondents, available for public review during regular business hours. Individual respondents may request that we withhold their home address from the rulemaking record, which we will honor to the extent allowable by law. In some circumstances, we would withhold from the rulemaking record a respondent's identity, as allowable by law. If you wish for us to withhold your name and/or address, you must state this prominently at the beginning of your comment. We will make all submissions from organizations or businesses, and from individuals identifying themselves as representatives or officials of organizations or businesses, available for public inspection in their entirety.

William Knauer drafted this document under the guidance of Thomas H. Boyd of the Office of Subsistence Management, Alaska Regional Office, U.S. Fish and Wildlife Service, Anchorage, Alaska. Taylor Brelsford, Alaska State Office, Bureau of Land Management; Greg Bos, Carl Jack, and Rod Simmons, Alaska Regional Office, U.S. Fish and Wildlife Service; Sandy Rabinowitch, Alaska Regional Office, National Park Service; Warren Eastland, Pat Petrivelli, and Dr. Glenn Chen, Alaska Regional Office, Bureau of Indian Affairs; and Steve Kessler, Alaska Regional Office, USDA-Forest Service provided additional guidance.

Dated: July 25, 2005.
Thomas H. Boyd,
Acting Chair, Federal Subsistence Board.

Dated: July 27, 2005.
Steve Kessler,
Subsistence Program Leader, USDA-Forest Service.

[FR Doc. 05-17080 Filed 8-26-05; 8:45 am]

BILLING CODE 3410-11-P; 4310-55-P